DEPARTMENT OF THE INTERIOR

Fish and Wildlife Service

50 CFR Part 17

[Docket Nos. FWS-R2-ES-2016-0099, FWS-R2-ES-2016-0100, FWS-R2-ES-2016-0130, FWS-R2-ES-2016-0137, FWS-R2-ES-2016-0119; FXES11130900000C2-167-FF09E32000]

RINs 1018-BA74; 1018-BA75; 1018-BB90; 1018-BB89; 1018-BB87

Endangered and Threatened Wildlife and Plants; Reopening the Comment Periods for Five Proposed Rules

AGENCY: Fish and Wildlife Service, Interior.

ACTION: Proposed rules; reopening comment period.

SUMMARY: We, the U.S. Fish and Wildlife Service (Service), announce that we are reopening the comment periods for our proposed rules to list Festuca ligulata (Guadalupe fescue) as an endangered species; to designate Festuca ligulata critical habitat; to reclassify Sclerocactus brevihamatus ssp. tobuschii (Tobusch fishhook cactus) from endangered to threatened; to reclassify Echinocereus fendleri var. kuenzleri (Kuenzler hedgehog cactus) from endangered to threatened; and to remove Eriogonum gypsophilum (gypsum wild-buckwheat) from the Federal List of Endangered and Threatened Plants. We are reopening the comment period for each of these proposed rules for 30 days in order to publish a legal notice and to give all interested parties further opportunity to comment on the proposed rules. Comments previously submitted need not be resubmitted, as they will be fully considered in preparing the final listing determinations.

DATES: To allow us adequate time to consider your comments on the proposed rule, we must receive your comments on or before July 13, 2017.

ADDRESSES:

Written comments: You may submit comments on the proposed rules by one of the following methods:

• Federal eRulemaking Portal: Go to the Federal eRulemaking Portal: http://www.regulations.gov. In the Search box, enter the appropriate docket number (see Table 1, below). Then click on the Search button. On the resulting page, you may submit a comment by clicking on “Comment Now!” Please ensure that you have found the correct rulemaking before submitting your comment.

• By U.S. mail or hand-delivery: Public Comments Processing, Attn: [Insert appropriate docket number; see Table 1, below], U.S. Fish and Wildlife Service, MS: BPHC, 5275 Leesburg Pike, Falls Church, VA 22041-3803.

We request that you send comments only by the methods described above. We will post all comments on http://www.regulations.gov. This generally means that we will post any personal information you provide us (see SUPPLEMENTARY INFORMATION for more information).

Table 1—List of Proposed Rules Reopened for Public Comment
Proposed rule title | Federal Register citation | Docket No.
Guadalupe Fescue Endangered Species Status | 81 FR 62450; September 9, 2016 | FWS-R2-ES-2016-0099
Guadalupe Fescue Critical Habitat Designation | 81 FR 62455; September 9, 2016 | FWS-R2-ES-2016-0100
Reclassifying the Tobusch Fishhook Cactus From Endangered to Threatened on the Federal List of Endangered and Threatened Plants | 81 FR 95932; December 29, 2016 | FWS-R2-ES-2016-0130
Reclassifying Echinocereus fendleri var. kuenzleri From Endangered to Threatened | 82 FR 1677; January 6, 2017 | FWS-R2-ES-2016-0137
Removing Eriogonum gypsophilum From the Federal List of Endangered and Threatened Plants | 82 FR 1657; January 6, 2017 | FWS-R2-ES-2016-0119

Document availability: Comments and materials we receive, as well as supporting documentation we used in preparing the proposed rule, will be available for public inspection on http://www.regulations.gov under the appropriate docket number (see Table 1, above).

FOR FURTHER INFORMATION CONTACT:

Proposed rule title | Contact person
Guadalupe Fescue Endangered Species Status Guadalupe Fescue Critical Habitat Designation Reclassifying the Tobusch Fishhook Cactus From Endangered to Threatened on the Federal List of Endangered and Threatened Plants | Adam Zerrenner, Field Supervisor, U.S. Fish and Wildlife Service, Austin Ecological Services Field Office, 10711 Burnet Rd., Suite 200, Austin, TX 78758; telephone (512) 490-0057.
Reclassifying Echinocereus fendleri var. kuenzleri From Endangered to Threatened Removing Eriogonum gypsophilum From the Federal List of Endangered and Threatened Plants | Susan Millsap, Field Supervisor, U.S. Fish and Wildlife Service, 2105 Osuna Road NE., Albuquerque, NM 87113-1001; telephone (505) 761-4781.

Individuals who are hearing-impaired or speech-impaired may call the Federal Relay Service at (800) 877-8339 for TTY assistance 24 hours a day, 7 days a week.

SUPPLEMENTARY INFORMATION: On September 9, 2016, we published proposed rules to list Guadalupe fescue as an endangered species on the Federal List of Endangered and Threatened Plants (81 FR 62450) and to designate its critical habitat (81 FR 62455). We sought information, data and comments from the public regarding the proposal for 60 days, ending November 8, 2016. We are reopening the comment period on the proposed rules for an additional 30 days (see DATES). We will accept written comments and information during this reopened comment period. In particular, we seek comments concerning the following: (1) New information concerning Guadalupe fescue taxonomic classification and conservation status; (2) new information on Guadalupe fescue historical and current status, range, distribution, and population size, including additional population locations; and (3) new information regarding Guadalupe fescue life history, ecology and habitats. Please refer to the proposed rules for more information on our proposed actions and the specific information we seek.

On December 29, 2016, we published a proposed rule to reclassify Tobusch fishhook cactus from an endangered to a threatened species on the Federal List of Endangered and Threatened Plants (81 FR 95932). We sought information, data and comments from the public regarding the proposal for 60 days, ending February 27, 2017. We are reopening the comment period on the proposed rule for an additional 30 days (see DATES). We will accept written comments and information during this reopened comment period. In particular, we seek comments concerning the following: (1) New information concerning Tobusch fishhook cactus taxonomic classification and conservation status; (2) new information on Tobusch fishhook cactus historical and current status, range, distribution, and population size, including additional population locations; and (3) new information regarding Tobusch fishhook cactus life history, ecology and habitats. Please refer to the proposed rule for more information on our proposed action and the specific information we seek.

On January 6, 2017, we published a proposed rule to reclassify Kuenzler hedgehog cactus from an endangered to a threatened species on the Federal List of Endangered and Threatened Plants (82 FR 1677). We sought information, data and comments from the public regarding the proposal for 60 days, ending March 7, 2017. We are reopening the comment period on the proposed rule for an additional 30 days (see DATES). We will accept written comments and information during this reopened comment period. In particular, we seek comments concerning the following: (1) New information concerning Kuenzler hedgehog cactus taxonomic classification and conservation status; (2) new information on Kuenzler hedgehog cactus historical and current status, range, distribution, and population size, including any additional population locations; and (3) new information regarding Kuenzler hedgehog cactus life history, ecology, and habitats. Please refer to the proposed rule for more information on our proposed action and the specific information we seek.

On January 6, 2017, we published a proposed rule to remove gypsum wild-buckwheat from the Federal List of Endangered and Threatened Plants (82 FR 1657). We sought information, data and comments from the public regarding the proposal for 60 days, ending March 7, 2017. We are reopening the comment period on the proposed rule for an additional 30 days (see DATES). We will accept written comments and information during this reopened comment period. In particular, we seek comments concerning the following: (1) New information concerning gypsum wild-buckwheat taxonomic classification and conservation status; (2) new information on gypsum wild-buckwheat historical and current status, range, distribution, and population size, including any additional population locations; and (3) new information regarding gypsum wild-buckwheat life history, ecology, and habitats. Please refer to the proposed rule for more information on our proposed action and the specific information we seek.

You may submit your comments and materials concerning any of the proposed rules by one of the methods listed in ADDRESSES. Before including your address, phone number, email address, or other personal identifying information in your comment, you should be aware that your entire comment—including your personal identifying information—may be made publicly available at any time. All comments and recommendations, including names and addresses, will become part of the administrative record.

If you submit information via http://www.regulations.gov, your entire comment—including any personal identifying information—will be posted on the Web site. While you can ask us in your comment to withhold your personal identifying information from public review, we cannot guarantee that we will be able to do so.

If you mail or hand-deliver a hardcopy comment that includes personal identifying information, you may request at the top of your document that we withhold this information from public review, but we cannot guarantee that we will be able to do so. To ensure that the electronic dockets for these rulemakings are complete and all comments we receive are publicly available, we will post all hardcopy submissions on http://www.regulations.gov.

Authors

This document's primary authors are Southwest Regional Office and Austin Ecological Services Field Office staff members.

Authority

The Endangered Species Act of 1973, as amended (16 U.S.C. 1531 et seq.) is the authority for this action.

Dated: March 30, 2017.
James W. Kurth,
Acting Director, U.S. Fish and Wildlife Service.

[FR Doc. 2017-11968 Filed 6-12-17; 8:45 am]

BILLING CODE 4333-15-P